DEPARTMENT OF ENERGY

Federal Energy Regulatory Commission

[Docket No. ER00-1694-001, et al.]

Pacific Gas and Electric Company, et al.; Electric Rate and Corporate Regulation Filings

March 21, 2000.

Take notice that the following filings have been made with the Commission:

1. Pacific Gas and Electric Company

[Docket No. ER00-1694-001]

Take notice that on March 16, 2000, Pacific Gas and Electric Company (PG&E), tendered for filing replacement revisions to Part V of Appendix A to the Interconnection Agreement between Pacific Gas And Electric And The City Of Santa Clara (IA). The IA was initially filed under FERC Docket No. ER84-6-000 and designated PG&E Rate Schedule FERC No. 85.

Copies of this filing were served upon City of Santa Clara and the Public Utilities Commission of the State of California.

Comment date: April 6, 2000, in accordance with Standard Paragraph E at the end of this notice.

2. Southern California Edison Company

[Docket No. ER00-1896-000]

Take notice that on March 16, 2000, Southern California Edison Company (SCE), tendered for filing an unexecuted Service Agreement for Wholesale Distribution Service and an unexecuted Interconnection Facilities Agreement between Atlantic Richfield Company (ARCO) and SCE.

These unexecuted Agreements specify the terms and conditions pursuant to which SCE will interconnect ARCO's generation to its electrical system and provide up to 34 MW of Distribution Service to ARCO.

Comment date: April 6, 2000, in accordance with Standard Paragraph E at the end of this notice.

3. MidAmerican Energy Company

[Docket No. ER00-1897-000]

Take notice that on March 16, 2000, MidAmerican Energy Company (MidAmerican), 666 Grand Avenue, Des Moines, Iowa 50309, tendered with the Commission a First Amendment dated March 8, 2000, to a Network Operating Agreement with Montezuma Municipal Light and Power (Montezuma) entered into pursuant to MidAmerican's Open Access Transmission Tariff.

MidAmerican requests an effective date of March 8, 2000 for the First Amendment and accordingly seeks a waiver of the Commission's notice requirement. MidAmerican has served a copy of the filing on Montezuma, the Iowa Utilities Board, the Illinois Commerce Commission and the South Dakota Public Utilities Commission.

Comment date: April 6, 2000, in accordance with Standard Paragraph E at the end of this notice.

4. CP&L Holdings, Inc. on Behalf of Its Public Utility Subsidiaries and Florida Progress Corporation on Behalf of Its Public Utility Subsidiaries

[Docket Nos. EC00-55-000 and ER00-1520-001]

Take notice that on March 14, 2000, CP&L Energy, Inc. and Florida Progress Corporation and their public utility subsidiaries (collectively the Applicants) tendered for filing an Amended and Restated Agreement and Plan of Exchange between CP&L and Florida Progress (the Amended Agreement). The Amended Agreement replaces the Agreement and Plan of Exchange dated August 22, 1999 (the Exchange Agreement) that was included in Exhibit H to the joint application for merger authorization in this docket.

Comment date: April 3, 2000, in accordance with Standard Paragraph E at the end of this notice.

5. J. Aron & Company

[Docket No. ER95-34-022]

Take notice that on February 11, 2000, J. Aron & Company filed a quarterly report for information only.

6. Tennessee Power Company

[Docket No. ER95-581-020]

Take notice that on March 10, 2000, Tennessee Power Company filed a quarterly report for information only.

7. Cogentrix Energy Power Marketing, Inc.

[Docket No. ER95-1739-018]

Take notice that on March 17, 2000, Cogentrix Energy Power Marketing, Inc. filed a quarterly report for information only.

8. Northeast Energy Services, Inc. Puget Sound Energy, Inc.

[Docket No. ER97-4347-009 and ER99-845-002]

Take notice that on March 9, 2000, the above-mentioned power marketers filed quarterly reports with the Commission in the above-mentioned proceedings for information only.

9. Geysers Power Company

[Docket No. ER98-495-014]

Take notice that on March 16, 2000, Geysers Power Company, LLC (Geysers Power) filed its interim report regarding refunds for the reliability must-run (RMR) agreement under which Geysers Power provides RMR services to the ISO. Geysers Power submits the interim refund report in accordance with the Commission letter order dated January 31, 2000, Geysers Power Company, LLC, 90 FERC ¶ 61,096 (2000) approving the settlement among Geysers Power, Pacific Gas and Electric Company, the California Independent System Operator Corporation (ISO) and the California Electricity Oversight Board.

As required by the settlement, commencing with the Revised Estimated Invoice for January 2000, Geysers Power will adjust its invoices to the ISO by crediting refunds against future charges for RMR services. Geysers Power will continue to credit the ISO until the refund obligation is extinguished. Within fifteen days after the fulfillment of its refund obligation, Geysers Power will file a final refund report with the Commission.

Comment date: April 6, 2000, in accordance with Standard Paragraph E at the end of this notice.

10. Wisconsin Public Service Corporation

[Docket No. OA97-523-002]

Take notice that on March 16, 2000, Wisconsin Public Service Corporation (WPSC) tendered for filing on behalf of Upper Peninsula Power Co (UPPCO), a compliance report for refunds required due to settlement of transmission tariffs.

Comment date: April 17, 2000, in accordance with Standard Paragraph E at the end of this notice.

11. Tampa Electric Company

[Docket No. ER00-1898-000]

Take notice that on March 16, 2000, Tampa Electric Company (Tampa Electric), tendered for filing a Notice of Termination of a letter of commitment under interchange service Schedule D between Tampa Electric and the Reedy Creek Improvement District (RCID).

Tampa Electric proposes that the termination be made effective on January 1, 2000, and therefore requests waiver of the Commission's notice requirement.

Copies of the filing have been served on RCID and the Florida Public Service Commission.

Comment date: April 6, 2000, in accordance with Standard Paragraph E at the end of this notice.

12. Tampa Electric Company

[Docket No. ER00-1899-000]

Take notice that on March 16, 2000, Tampa Electric Company (Tampa Electric), tendered for filing Notice of Termination of a letter of commitment under interchange service Schedule D between Tampa Electric and the Utilities Commission, City of New Smyrna Beach (New Smyrna Beach) and the related form of service agreement under Tampa Electric's open access transmission tariff.

Tampa Electric proposes that the terminations be made effective on March 1, 2000, and therefore requests waiver of the Commission's notice requirement.

Copies of the filing have been served on New Smyrna Beach and the Florida Public Service Commission.

Comment date: April 6, 2000, in accordance with Standard Paragraph E at the end of this notice.

13. Connexus Energy

[Docket No. ER00-1900-000]

Take notice that on March 16, 2000, Connexus Energy (Connexus), tendered for filing an amendment to its rate schedule for service to Elk River Municipal Utilities (Elk River). Connexus states that the purpose of the amendment is to amend the rates and services applicable to Elk River under the December 20, 1990 all requirements Contract between Connexus and Elk River.

Comment date: April 6, 2000, in accordance with Standard Paragraph E at the end of this notice.

14. Pacific Gas and Electric Company

[Docket No. ER00-1901-000]

Take notice that on March 16, 2000, Pacific Gas and Electric Company (PG&E), tendered for filing a Notice of Termination of the “Special Facilities Agreement for Interconnection of NCPA's Combustion Turbine at Roseville,” PG&E Rate Schedule FERC No. 132.

Copies of this filing have been served upon Northern California Power Agency and the California Public Utilities Commission.

Comment date: April 6, 2000, in accordance with Standard Paragraph E at the end of this notice.

15. Duke Energy Corporation

[Docket No. ER00-1902-000]

Take notice that on March 16, 2000, Duke Energy Corporation (Duke), on behalf of Duke Electric Transmission, a division of Duke, tendered for filing an Interconnection and Operating Agreement with Rockingham Power, L.L.C., (Rockingham Power).

Duke requests an effective date of March 17, 2000.

Duke states that a copy of this filing is being sent to Rockingham Power.

Comment date: April 6, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-7716 Filed 3-28-00; 8:45 am]

BILLING CODE 6717-01-P